DEPARTMENT OF TRANSPORTATION

Federal Aviation Administration

Cancellation of User Input Meeting to the Aviation Weather Technology Transfer (AWTT) Board

AGENCY: Federal Aviation Administration (FAA), Department of Transportation (DOT).

ACTION: Notice of cancellation of public meeting.

SUMMARY: The FAA had announced that it would hold an informal public meeting to seek aviation weather user input. The meeting was to be held in conjunction with the National Business Aviation Association (NBAA) conference in New Orleans, LA on September 18, 2001. The NBAA convention has been postponed. FAA is also postponing the meeting.

DATES: The meeting was to be held in Room 291 at the Ernest N. Morial Convention Center, 900 Convention Center Blvd., New Orleans, LA 70130 in conjunction with the National Business Aviation Association, Inc. (NBAA) annual convention. Times: 1-5 pm, on September 18, 2001. The meeting is now postponed and will be rescheduled. Notice of the rescheduled meeting will be published in the Federal Register notice.

FOR FURTHER INFORMATION CONTACT: Debi Bacon, Aerospace Weather Policy Division, ARS-100, Federal Aviation Administration, 800 Independence Ave., SW., Washington, DC 20591; telephone number (202) 385-7705; Fax: (202) 385-7701; e-mail: debi.bacon@faa.gov. Internet address: http://www.debi.bacon@faa.gov.

SUPPLEMENTARY INFORMATION: None.

* * * * *

Issued in Washington, DC on September 19, 2001.
Frances Sherertz,
Deputy Director, Aerospace Weather Policy and Standards Staff.

[FR Doc. 01-24100 Filed 9-25-01; 8:45 am]

BILLING CODE 4910-13-M